DEPARTMENT OF TRANSPORTATION

Federal Motor Carrier Safety Administration

[Docket No. FMCSA-2023-0152]

National Registry of Certified Medical Examiners: Proposed Removal of Medical Examiners for Noncompliance With Login.gov Requirement

AGENCY: Federal Motor Carrier Safety Administration (FMCSA), Department of Transportation (DOT).

ACTION: Notice of proposed removal from the National Registry of Certified Medical Examiners (National Registry).

SUMMARY: FMCSA proposes to remove medical examiners (ME) from its National Registry who have failed to access their National Registry account using login.gov and have failed to update the profile information in their National Registry account as required. Since June 2018, by using the email, physical address, and telephone number these MEs provided to the Agency in their National Registry account, FMCSA has attempted to notify them of the requirement to access their account using login.gov. There are approximately 15,727 MEs who have not accessed their National Registry account using login.gov and as a result, are not able to fulfill regulatory requirements such as reporting results of physical qualification examinations performed on commercial motor vehicle (CMV) drivers, receiving FMCSA communications, and completing required training. MEs who are removed from the National Registry will no longer be certified to perform physical qualification examinations of CMV drivers. To avoid being removed from the National Registry, MEs to whom this notice applies must complete the corrective actions set forth below. A list of MEs subject to this notice is provided in the docket for this proceeding.

DATES: On or before February 23, 2024, MEs who are subject to this Notice must: (1) create a login.gov account using the same email address as their National Registry account or sign into the National Registry with an existing login.gov account using the same email address as their National Registry account, through the National Registry website at https://nationalregistry.fmcsa.dot.gov (Select “Login”); and (2) once logged in, correct all outdated contact information in their National Registry profile. MEs who fail to complete these actions will be removed from the National Registry on February 26, 2024.

FOR FURTHER INFORMATION CONTACT: Ms. Christine A. Hydock, Chief, Medical Programs Division, FMCSA, 1200 New Jersey Avenue SE, Washington, DC 20590-0001; (202) 366-4001; fmcsamedical@dot.gov. If you have questions on viewing documents in the docket, contact Dockets Operations, (202) 366-9317 or (202) 366-9826.

SUPPLEMENTARY INFORMATION:

I. Availability of Documents

To view the list of MEs subject to this Notice, go to https://www.regulations.gov/docket/FMCSA-2023-0152/document and choose the document to review. If you do not have access to the internet, you may view the docket online by visiting Dockets Operations at DOT, 1200 New Jersey Avenue SE, West Building, Ground Floor, Washington, DC 20590-0001, between 9 a.m. and 5 p.m., Monday through Friday, except Federal holidays. To be sure someone is there to help you, please call (202) 366-9317 or (202) 366-9826 before visiting Dockets Operations.

II. Legal Basis

FMCSA is required to establish and maintain a current national registry of MEs who are qualified to perform physical qualification examinations and issue medical examiner's certificates to operators of CMVs (49 U.S.C. 31149(d)(1)). FMCSA is also required to remove from the registry the name of any ME who fails to meet or maintain the requirements established by the Agency for being listed in the registry (49 U.S.C. 31149(d)(2)).

Accordingly, by publication of this Notice, FMCSA provides written notice of proposed removal of the affected MEs from the National Registry and sets forth corrective actions necessary for the MEs to remain listed. This Notice provides actual or constructive notice of the Agency's action (44 U.S.C. 1507).

III. Background

Among the requirements to be certified as an ME on the National Registry, MEs are required to register on the National Registry website and establish an account by providing current contact information and other required information (49 CFR 390.103(a)(2)). MEs are also required to update their National Registry account within 30 days of any changes in such information (49 CFR 390.111(a)(2)).

On June 22, 2018, FMCSA implemented a new security requirement for all National Registry users to access their account using login.gov. Login.gov is a secure sign-in service used by FMCSA to allow users to securely access certain FMCSA information systems. The use of login.gov is required to meet National Institute of Standards and Technology requirements for secure validation and verification. As a result of this requirement, FMCSA notified all National Registry users by email, using the email address provided in each user's National Registry account, that they must access their National Registry account using login.gov. The notification explained that the use of login.gov is a requirement and would provide an extra layer of security to help protect National Registry accounts against security breaches. Once the email notification was sent to all National Registry users, it was posted on the National Registry page of the FMCSA website and later posted in the Resource Center of the National Registry website.

When registering to become certified by FMCSA, and on an annual basis, each ME agrees to accept any written communication from FMCSA relating to their participation on the National Registry by electronic mail at the email address(es) they provided in their National Registry account. In response to the email notifications regarding the login.gov requirement, FMCSA was notified that an email delivery failure had occurred for the MEs now proposed for removal. Accordingly, FMCSA determined that the email addresses in the National Registry accounts of those MEs were not valid and had not been updated by the MEs as required. Therefore, FMCSA staff made repeated attempts to contact those MEs through phone calls and/or letters sent by U.S. mail. When those efforts were also unsuccessful, the Agency made attempts as recently as June 2023 to contact Medical Examiner Administrative Assistants and Third Party Organizations designated by the MEs proposed for removal to obtain current contact information for these MEs. The MEs proposed for removal have not responded to FMCSA's attempts to contact them and have failed to access their National Registry account using login.gov.

On February 28, 2022, FMCSA launched a new National Registry system and has continued its efforts to ensure the accuracy of the data in the system. This includes removing any MEs who are not in compliance with the regulatory requirements. FMCSA wants to ensure when the public is searching for an ME on the website, that only MEs who are compliant with the regulatory requirements are listed as certified by FMCSA and that those who are not will be listed as removed. There are 92,625 MEs listed on the National Registry who have been certified by FMCSA to conduct physical qualification examinations. Approximately 76,898 of these MEs are accessing their National Registry account using login.gov and 38,707 of these MEs are actively performing physical qualification examinations and reporting results to the National Registry. To date, FMCSA has not received any complaints from CMV drivers indicating difficulties in locating MEs and scheduling appointments for their physical qualification examinations. In addition, the Agency continues to monitor the geographic distribution of MEs to identify potential challenges for drivers in locating MEs. Therefore, FMCSA does not anticipate any concerns that there are too few MEs to meet the demand for physical qualification examinations and the possible removal of approximately 15,727 MEs, as proposed in this Notice, will not have any impact on the availability of certified MEs to perform physical qualification examinations of CMV drivers.

It is imperative that FMCSA remove these MEs from the National Registry now, before the final provisions of the Medical Examiner's Certification Integration (NRII) final rule are implemented on June 23, 2025 (80 FR 22790, Apr. 23, 2015). On that date, FMCSA will begin electronically transmitting medical certification information for CMV drivers required to hold a commercial learner's permit or a commercial driver's license from the National Registry to the State Driver's Licensing Agencies (SDLAs). If an ME does not access their National Registry account using login.gov and report results of physical qualification examinations performed, FMCSA will not be able to electronically transmit those results to the SDLA for posting to the drivers' records.

IV. Proposed Action To Remove Medical Examiners

FMCSA proposes to remove MEs from its National Registry who have failed to access their National Registry account using login.gov and have failed to update their National Registry account information.

There are approximately 15,727 MEs who have not accessed their National Registry account using login.gov and as a result, are not able to fulfill regulatory requirements such as reporting results of physical qualification examinations performed on CMV drivers, receiving FMCSA communications, and completing required training. Despite multiple attempts, FMCSA staff has not been able to reach these MEs. Accordingly, FMCSA is proposing to remove these MEs from the National Registry for failure to comply with the requirement to access their National Registry account using login.gov and to maintain current contact information. A list of the MEs whom FMCSA proposes to remove can be found in the docket for this proceeding (see https://www.regulations.gov/docket/FMCSA-2023-0152/document).

V. Required Corrective Actions

MEs proposed for removal must complete the following corrective actions on or before February 23, 2024 to avoid being removed from the National Registry: (1) create a login.gov account using the same email address as their National Registry account or sign into the National Registry with an existing login.gov account using the same email address as their National Registry account, through the National Registry website at https://nationalregistry.fmcsa.dot.gov (Select “Login”); and (2) once logged in, correct all outdated contact information in their National Registry profile. MEs who do not complete these corrective actions will be removed from the National Registry on February 24, 2024. If assistance is needed to complete these corrective actions, affected MEs may contact the National Registry Technical Support Help Desk at fmctechsup@dot.gov or (617) 494-3003.

VI. Effect of Removal From the National Registry

Removal of an ME pursuant to this Notice will not invalidate any Medical Examiner's Certificates, Form MCSA-5876, issued by that ME to CMV drivers prior to the date they are removed from the National Registry. However, after an ME has been removed from the National Registry, they will no longer be authorized to perform physical qualification examinations of CMV drivers and issue Medical Examiner's Certificates, Form MCSA-5876 (49 U.S.C. 31149(d)(3)). MEs removed from the National Registry will continue to appear on the public website for 3 years following the date of their removal with an indication that they are no longer certified as an ME and have been removed from the National Registry with a removal date. FMCSA encourages CMV drivers and other stakeholders to use the National Registry website public search feature to verify that an ME is certified by FMCSA, as this will have the most current information, including a removal date where applicable.

MEs who are removed from the National Registry pursuant to this Notice may request reinstatement to the National Registry after completing the corrective actions set forth in Section V above. To request reinstatement MEs must log in to their National Registry account, select “My Profile” from the main menu on the left side of the screen, select “Request Reinstatement,” follow the instructions provided, and submit the reinstatement request to FMCSA for consideration.

Robin Hutcheson,
Administrator.

[FR Doc. 2024-01283 Filed 1-23-24; 8:45 am]

BILLING CODE 4910-EX-P